DEPARTMENT OF ENERGY

Federal Energy Regulatory Commission

[Project No. 2586-024]

Alabama Electric Cooperative, Inc.; Application and Applicant-Prepared EA Accepted for Filing, Soliciting Motions To Intervene and Protests, and Soliciting Comments, and Final Recommendations, Terms and Conditions, and Prescriptions

September 28, 2004.

Take notice that the following hydroelectric application has been filed with the Commission and is available for public inspection.

a. Type of Application: New major license.

b. Project No.: 2586-024.

c. Date Filed: April 29, 2003.

d. Applicant: Alabama Electric Cooperative, Inc.

e. Name of Project: Conecuh River Project.

f. Location: The Conecuh River Project is located on the Conecuh River in Andalusia, AL. The project does not affect Federal lands.

g. Filed Pursuant to: Federal Power Act, 16 U.S.C. 791(a)-825(r).

h. Applicant Contact: Scott Wright (Engineering contact) or Mike Noel (Environmental contact), Alabama Electric Cooperative, Inc., 2027 East Three Notch Street, P.O. Box 550, Andalusia, AL 36420-0550.

i. FERC Contact: Sean Murphy at (202) 502-6145 or sean.murphy@ferc.gov.

j. Deadline for filing motions to intervene and protests, comments, and final recommendations, terms and conditions, and prescriptions: 60 days from the issuance of this notice

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application and environmental assessment has been accepted, and is ready for environmental analysis at this time.

l. The 8.25-megawatt (MW) project consists of two developments the Gant Dam Development and the Point A Development

The Point “A” Development consists of the following existing facilities: (1) A 2,800-foot-long earthen dam comprised of a gated concrete spillway section; (2) a 700-acre reservoir at a normal water surface elevation of 170 feet msl; (3) a powerhouse, integral with the dam, containing three generating units with a total installed capacity of 5,200 kW, (4) a 0.39-mile-long, 46-kV transmission line; and (5) other appurtenances.

The Gantt Development consists of the following existing facilities: (1) A 1,562-foot-long earthen dam comprised of a gated concrete spillway section; (2) a 2,767-acre reservoir at a normal water surface elevation of 198 feet msl; (3) a powerhouse, integral with the dam, containing two generating units with a total installed capacity of 3,050 kW, and (4) other appurtenances.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at: http://www.ferc.gov/docs-filing/esubscription.asp to be notified via e-mail of new filings and issuances related to this or other pending projects. For assistance, contact FERC Online Support.

n. The tentative schedule for processing the application follows:

Milestone | Date
Deadline for Agency Recommendations | November 1, 2004
Deadline for Reply Comments | December 1, 2004
Issuance of EA | January 2005
Public Comments on EA due | February 2005
Ready for Commission Decision on the Application | March 2005

Final amendments to the application must be filed with the Commission no later than 45 days from the issuance date of this notice.

Magalie R. Salas,
Secretary.

[FR Doc. E4-2482 Filed 10-4-04; 8:45 am]

BILLING CODE 6717-01-P